DEPARTMENT OF HOMELAND SECURITY

Federal Emergency Management Agency

[Docket ID FEMA-2104-0010; OMB No. 1660-0010]

Agency Information Collection Activities: Submission for OMB Review; Comment Request; Implementation of Coastal Barrier Legislation.

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before August 1, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 500 C Street SW., Room 7NE, Washington, DC 20472-3100, facsimile number (202) 212-4701, or email address FEMA-Information-Collections-Management@dhs.gov.

SUPPLEMENTARY INFORMATION:

Collection of Information

Title: Implementation of Coastal Barrier Legislation.

Type of information collection: Extension, without change, of a currently approved information collection.

Form Titles and Numbers: None.

Abstract: When an application for flood insurance is submitted for buildings located in a Coastal Barrier Resource System (CBRS) or an otherwise protected area, one of the following types of documentation must be submitted as evidence of eligibility: (a) Certification from a community official stating the building is not located in a designated CBRS area; (b) A legally valid building permit or certification from a community official stating that the start date of a building's construction preceded the date that the community was identified in the CBRS; or (c) Certification from the governmental body overseeing the area indicating that the building is used in a manner consistent with the purpose for which the area is protected.

Affected Public: Individuals or households; Businesses or other for profits; Not-for-profit institutions; Farms; and State, local or Tribal governments.

Estimated Number of Respondents: 1600.

Estimated Total Annual Burden Hours: 400.

Estimated Cost: The estimated annual operations and maintenance costs for technical services is $1,600.00. There is no annual start-up or capital costs. The change in number of respondents since the 60 day Federal Register Notice (79 FR 12699 (March 6, 2014)) is based on an updated calculation of flood insurance applications received requiring this CBRS documentation. The estimated total annual burden hour and cost have been updated to reflect this adjusted estimated number of respondents.

Dated: June 23, 2014.
Charlene D. Myrthil,
Director, Records Management Division, Mission Support Bureau, Federal Emergency Management Agency, Department of Homeland Security.

[FR Doc. 2014-15462 Filed 7-1-14; 8:45 am]

BILLING CODE 9110-11-P